DEPARTMENT OF DEFENSE

Department of the Army

[Docket ID: USA-2024-HQ-0007]

Submission for OMB Review; Comment Request; Correction

AGENCY: Department of the Army, Department of Defense (DoD).

ACTION: 30-Day information collection notice; correction.

SUMMARY: On August 16, 2024, the DoD published a notice titled Submission for OMB Review; Comment Request. Subsequent to publication of the notice, DoD discovered that the docket identifier in the published notice was not correct. All other information in the August 16, 2024 notice remains the same.

FOR FURTHER INFORMATION CONTACT: Patricia Toppings, 571-372-0485.

SUPPLEMENTARY INFORMATION:

Correction

The docket identifier DoD-2024-OS-0064 in the notice that published in the Federal Register on August 16, 2024 (89 FR 66700) is changed to read as follows:

In FR Doc. 2024-18358, on page 66700, in the second column, correct the docket identifier to read: Docket ID: USA-2024-HQ-0007.

Dated: September 17, 2024.
Aaron T. Siegel,
Alternate OSD Federal Register Liaison Officer, Department of Defense.

[FR Doc. 2024-21553 Filed 9-19-24; 8:45 am]

BILLING CODE 6001-FR-P